DEPARTMENT OF THE INTERIOR

Fish and Wildlife Service

[FWS-R6-ES-2008-N0187; 60120-1113-0000; C4]

Endangered and Threatened Wildlife and Plants; 5-Year Reviews of Three Wildlife Species and Eight Plant Species in the Mountain-Prairie Region

AGENCY: Fish and Wildlife Service, Interior.

ACTION: Notice of initiation of review; request for information on 11 species.

SUMMARY: We, the U.S. Fish and Wildlife Service (Service) initiate 5-year reviews of three wildlife species and eight plant species under the Endangered Species Act of 1973, as amended (Act) (see Table 1 under SUPPLEMENTARY INFORMATION ). We request any new information on these species that may have a bearing on their classification as endangered or threatened. Based on the results of these 5-year reviews, we will make recommendations as to whether each of these species is properly classified under the Act.

DATES: To allow us adequate time to conduct these reviews, we must receive your information no later than December 5, 2008. However, we will continue to accept new information about any listed species at any time.

ADDRESSES: For instructions on how to submit information and review the information that we receive on these species, see “Public Solicitation of New Information.”

FOR FURTHER INFORMATION CONTACT: For species-specific information, contact the appropriate person under “Public Solicitation of New Information.” Individuals who are hearing impaired or speech impaired may call the Federal Relay Service at (800) 877-8337 for TTY (telephone typewriter or teletypewriter) assistance.

SUPPLEMENTARY INFORMATION:

Why Do We Conduct a 5-Year Review?

Under the Act (16 U.S.C. 1531 et seq.), we maintain the List of Endangered and Threatened Wildlife and Plant Species (List) at 50 CFR 17.11 and 17.12. We amend the List by publishing final rules in the Federal Register. Section 4(c)(2)(A) of the Act requires that we conduct a review of listed species at least once every 5 years. Section 4(c)(2)(B) requires that we determine (1) Whether a species no longer meets the definition of threatened or endangered and should be removed from the List (delisted); (2) whether a species more properly meets the definition of threatened and should be reclassified from endangered to threatened; or (3) whether a species more properly meets the definition of endangered and should be reclassified from threatened to endangered. Using the best scientific and commercial data available, we consider a species for delisting if the data substantiate that the species is neither endangered nor threatened for one or more of the following reasons: (1) The species is considered extinct; (2) the species is considered to be recovered; and/or (3) the original data available when the species was listed, or the interpretation of such data, were in error (50 CFR 424.11(d)). Any change in Federal classification requires a separate rulemaking process. Therefore, we are requesting submission of any new information (best scientific and commercial data) on these species that is relevant to our review under section 4(c)(2)(A).

Our regulations at 50 CFR 424.21 require that we publish a notice in the Federal Register announcing those species currently under review. This notice announces initiation of our active review of the species in Table 1.

Table 1—Summary of Listing Information
Common name | Scientific name | Status | Where listed (current range) | Final listing rule
Animals
June sucker | Chasmistes liorus | Endangered | Entire (UT) | 51 FR 10851; 03/31/1986.
Pawnee montane skipper | Hesperia leonardus montana | Threatened | Entire (CO) | 52 FR 36176; 09/25/1987.
Wyoming toad | Bufo hemiophrys baxteri | Endangered | Entire (WY) | 49 FR 1992; 01/17/1984.
Plants
Barneby reed-mustard | Schoenocrambe barnebyi | Endangered | Entire (UT) | 57 FR 1403; 01/14/1992.
Barneby ridge-cress | Lepidium barnebyanum | Endangered | Entire (UT) | 55 FR 39864; 09/28/1990.
Blowout Penstemon | Penstemon haydenii | Endangered | Entire (NE, WY) | 52 FR 32929; 09/01/1987.
Clay-loving wild-buckwheat | Eriogonum pelinophilum | Endangered | Entire (CO) | 49 FR 28565; 07/13/1984.
Clay reed-mustard | Schoenocrambe argillacea | Threatened | Entire (UT) | 57 FR 1403; 01/14/1992.
Maguire primrose | Primula maguirei | Threatened | Entire (UT) | 50 FR 33734; 08/21/1985.
North Park phacelia | Phacelia formosula | Endangered | Entire (CO) | 47 FR 38540; 09/01/1982.
Shrubby reed-mustard | Schoenocrambe suffrutescens | Endangered | Entire (UT) | 52 FR 37420; 10/06/1987.

What Information Do We Consider in Our Review?

In our 5-year review, we consider all new information available at the time of the review. These reviews will generally consider the best scientific and commercial data that have become available since the original listing determination or most recent status review of each species, such as—(A) Species biology, including but not limited to population trends, distribution, abundance, demographics, and genetics; (B) Habitat conditions, including but not limited to amount, distribution, and suitability; (C) Conservation measures that have been implemented to benefit the species; (D) Threat status and trends (see five factors under heading “How do we determine whether a species is endangered or threatened?”); and (E) Other new information, data, or corrections, including but not limited to taxonomic or nomenclatural changes, identification of erroneous information contained in the List of Endangered and Threatened Wildlife and Plants, and improved analytical methods.

Public Solicitation of New Information

We request any new information concerning the status of the wildlife species June sucker, Pawnee montane skipper, and Wyoming toad, and of the plant species Schoenocrambe barnebyi, Lepidium barnebyanum, Penstemon haydenii, Eriogonum pelinophilum, Schoenocrambe argillacea, Primula maguirei, Phacelia formosula, and Schoenocrambe suffrutescens. See “What Information Do We Consider in Our Review?” for specific criteria. If you submit information, support it with documentation such as maps, bibliographic references, methods used to gather and analyze the data, and/or copies of any pertinent publications, reports, or letters by knowledgeable sources. We specifically request information regarding data from any systematic surveys, as well as any studies or analysis of data that may show population size or trends; information pertaining to the biology or ecology of the species; information regarding the effects of current land management on population distribution and abundance; information on the current condition of habitat; and recent information regarding conservation measures that have been implemented to benefit the species. Additionally, we specifically request information regarding the current distribution of populations and evaluation of threats faced by the species in relation to the five listing factors (as defined in section 4(a)(1) of the Act) and the species' listed status as judged against the definition of threatened or endangered.

Our practice is to make information, including names and home addresses of respondents, available for public review. Before including your address, telephone number, e-mail address, or other personal identifying information in your response, you should be aware that your entire submission—including your personal identifying information—may be made publicly available at any time. While you can ask us in your submission to withhold your personal identifying information from public review, we cannot guarantee that we will be able to do so.

Mail or hand-deliver information on the following species to the U.S. Fish and Wildlife Service, Field Supervisor, at the corresponding address below. You also may view information we receive in response to this notice, as well as other documentation concerning these species that is contained in our files, at the following locations by appointment, during normal business hours.

June sucker: Larry Crist, Utah Field Supervisor, U.S. Fish and Wildlife Service, Attention: June sucker 5-year Review, 2369 West Orton Circle, Suite 50, West Valley City, Utah 84119; telephone (801) 975-3330. For species-specific information, contact Marianne Crawford at (801) 975-3330, extension 134.

Pawnee montane skipper: Susan Linner, Field Supervisor, Colorado Field Office, Ecological Services, P.O. Box 25486, MS-65412, Denver Federal Center, Denver, Colorado 80225; telephone (303) 236-4773. For species-specific information, contact Leslie Ellwood at (303) 236-4747.

Wyoming toad: Brian Kelly, Wyoming Field Supervisor, U.S. Fish and Wildlife Service, Attention: Wyoming toad 5-year Review, 5353 Yellowstone Road, Suite 308A, Cheyenne, Wyoming 82009; telephone (307) 772 2374. For species-specific information, contact Jan McKee at (307) 772 2374, extension 234.

Lepidium barnebyanum, Primula maguirei, Schoenocrambe barnebyi, Schoenocrambe argillacea, and Schoenocrambe suffrutescens: Larry Crist, Utah Field Supervisor, U.S. Fish and Wildlife Service, Attention: Lepidium barnebyanum, Primula maguirei, Schoenocrambe barnebyi, Schoenocrambe argillacea, or Schoenocrambe suffrutescens 5-year Review, 2369 West Orton Circle, Suite 50, West Valley City, Utah 84119; telephone (801) 975-3330. For species-specific information, contact Larry England (801) 975-3330, extension 138.

Penstemon haydenii: John Cochnar, Assistant Project Leader, U.S. Fish and Wildlife Service, Attention: Penstemon haydenii 5-year Review, 203 West Second Street, Federal Building, Second Floor, Grand Island, Nebraska 68801; telephone (308) 382-6468. For species-specific information, contact Martha Tacha at (308) 382-6468, extension 19.

Eriogonum pelinophilum and Phacelia formosula: Al Pfister, Western Colorado Project Leader, U.S. Fish and Wildlife Service, Attention: Eriogonum pelinophilum or Phacelia formosula 5-year Review, 764 Horizon Drive, Building B, Grand Junction, CO 81506-3946; telephone (970) 243-2778. For species-specific information, contact Ellen Mayo at (970) 243-2778, extension 14.

How Are These Species Currently Listed?

Table 1 provides current listing information. The List, covering all listed species, is available on our Internet site at http://endangered.fws.gov/wildlife.html#Species.

Definitions Related to This Notice

To help you submit information about the species we are reviewing, we provide the following definitions:

Species includes any species or subspecies of fish, wildlife, or plant, and any distinct population segment of any species of vertebrate, which interbreeds when mature;

Endangered species means any species that is in danger of extinction throughout all or a significant portion of its range; and

Threatened species means any species that is likely to become an endangered species within the foreseeable future throughout all or a significant portion of its range.

How Do We Determine Whether a Species Is Endangered or Threatened?

Section 4(a)(1) of the Act establishes that we determine whether a species is endangered or threatened based on one or more of the five following factors: (A) The present or threatened destruction, modification, or curtailment of its habitat or range; (B) Overutilization for commercial, recreational, scientific, or educational purposes; (C) Disease or predation; (D) The inadequacy of existing regulatory mechanisms; or (E) Other natural or manmade factors affecting its continued existence. Section 4(a)(1) of the Act requires that our determination be made on the basis of the best scientific and commercial data available.

What Could Happen as a Result of Our Review?

For each species under review, if we find new information that indicates a change in classification may be warranted, we may propose a new rule that could do one of the following: (a) Reclassify the species from threatened to endangered (uplist); (b) reclassify the species from endangered to threatened (downlist); or (c) remove the species from the List (delist). If we determine that a change in classification is not necessary, then the species will remain on the List under its current status.

Authority: This document is published under the authority of the Endangered Species Act of 1973, as amended (16 U.S.C. 1531 et seq.).

Dated: July 16, 2008.
James J. Slack,
Deputy Regional Director, Denver, Colorado.

[FR Doc. E8-23232 Filed 10-3-08; 8:45 am]

BILLING CODE 4310-55-P